DEPARTMENT OF HOMELAND SECURITY

Coast Guard

33 CFR Part 117

[CGD07-04-024]

Drawbridge Operation Regulations; Treasure Island Causeway, Gulf Intracoastal Waterway, Pinellas County, FL

AGENCY: Coast Guard, DHS.

ACTION: Notice of temporary deviation from regulations.

SUMMARY: The Commander, Seventh Coast Guard District, has approved a temporary deviation from the regulations governing the operation of the Treasure Island Causeway Bridge across the Gulf Intracoastal Waterway, mile 119.0, Pinellas County, Florida. This deviation allows the west bascule of the bridge to remain in the closed position from 8 a.m., March 9, 2004, until 5 p.m., April 30, 2004. Only single leaf openings will be provided during this period in order to effect repairs.

DATES: This deviation is effective from 8 a.m., on March 9, until 5 p.m., on April 30, 2004.

ADDRESSES: Material received from the public, as well as documents indicated in this preamble as being available in the docket [CGD07-04-024] will become part of this docket and will be available for inspection or copying at Commander (obr), Seventh Coast Guard District, 909 SE. 1st Avenue, Miami, Florida 33131-3050 between 7:30 a.m. and 4 p.m., Monday through Friday, except Federal Holidays.

FOR FURTHER INFORMATION CONTACT: Mr. Barry Dragon, Project Officer, Seventh Coast Guard District, Bridge Branch at (305) 415-6743.

SUPPLEMENTARY INFORMATION: The Treasure Island Causeway Bridge across the Gulf Intracoastal Waterway, Pinellas County, Florida, is a bascule bridge with a vertical clearance of 8 feet above mean high water (MHW) measured at the fenders in the closed position with a horizontal clearance of 80 feet. The current operating regulation in 33 CFR 117.287(g) requires that the bridge shall open on signal, except that from 7 a.m. to 7 p.m., the draw need open only on the hour, quarter hour, half hour and three quarter hour. From 11 p.m. to 7 a.m., the draw shall open on signal if at least 10 minutes advance notice is given. On February 3, 2004, the bridge owner, City of Treasure Island, requested a deviation from the current operating regulations to allow the owner and operator to provide single leaf operations, to facilitate repairs. The Commander, Seventh Coast Guard District has granted a temporary deviation from the operating requirements listed in 33 CFR 117.287(g) to complete repairs to the bridge. Under this deviation, the Treasure Island Causeway Bridge, across the Gulf Intracoastal Waterway, mile 119.0, Pinellas County, Florida, need only provide single leaf openings from March 9 until April 30, 2004.

Dated: February 9, 2004.
Greg Shapley,
Chief, Bridge Administration, Seventh Coast Guard District.

[FR Doc. 04-3620 Filed 2-18-04; 8:45 am]

BILLING CODE 4910-15-P